DEPARTMENT OF TRANSPORTATION

Federal Highway Administration

Notice of Intent To Prepare a Supplemental Draft Environmental Impact Statement

AGENCY: Federal Highway Administration (FHWA), DOT.

ACTION: Notice.

SUMMARY: The FHWA is issuing this notice to advise that a Supplemental Draft Environmental Impact Statement will be prepared for a proposed highway improvement project on State Trunk Highway 23 in Fond du Lac and Sheboygan Counties, Wisconsin.

FOR FURTHER INFORMATIOIN CONTACT: David D. Platz, FHWA, Suite 8000, 525 Junction Road, Madison, WI 53717-2157; Telephone: (608) 829-7509 or Eugene Johnson, Director, Bureau of Equity & Environmental Services, Wisconsin Department of Transportation, P.O. Box 7965; Rm 451; Madison, WI 53707-7965; Telephone (608) 266-8216.

SUPPLEMENTARY INFORMATION: The FHWA, in cooperation with the Wisconsin Department of Transportation (WisDOT), will prepare a Supplemental Draft Environmental Impact Statement (SEIS) for a capacity expansion on State Trunk Highway 23 in Fond du Lac and Sheboygan Counties. The proposed facility may consist of adding two lanes of roadway adjacent to the existing facility, constructing interchanges and frontage roads, constructing a bicycle pedestrian trail, or a combination there of. The proposed project begins southeast of the City of Fond du Lac, near the intersection of Johnson Street and the USH 151 Bypass of Fond du Lac. Existing STH 23 travels nearly 20 miles east through the Towns of Empire and Forest in Fond du Lac County, and the Towns of Greenbush and Plymouth in Sheboygan County ending near the intersection of CTH P and WIS 23. The completion of such a proposed highway facility on STH 23 would implement the recommendations of the long-term Corridors 2020 State Plan. These recommendations include addressing the facility deficiencies, providing for additional capacity, accommodating local and through traffic, improving safety and operations, providing adequate regional mobility, allowing adequate access to current and future growth/development. The STH 23 Draft Environmental Impact Statement (DEIS) was completed in November 2004 and documents the need for the STH 23 expansion and includes the evaluation of several alternatives. Upon completion of the DEIS, WisDOT met with local public officials and has met often with the public to gather as much input as possible on the project scope. This local coordination and public involvement has developed a scope that includes an extension of the Old Plank Trail to Fond du Lac as well as future interchange locations, including a system to system interchange between USH 151 and STH 23 that will be evaluated in the Supplemental DEIS.

Authority: 23 U.S.C. 315; 49 CFR 1.48

Issued on: September 3, 2009.
David J. Scott,
Field Operations/Major Projects Team Leader, Federal Highway Administration, Madison, Wisconsin.

[FR Doc. E9-21992 Filed 9-11-09; 8:45 am]

BILLING CODE 4910-22-P